SMALL BUSINESS ADMINISTRATION

Committee Management; Notice of Renewals

The Administrator of the U.S. Small Business Administration (SBA) has determined that the renewal of the Advisory Committee on Veterans Affairs is necessary and in the public interest in connection with the performance of duties imposed upon the Administration, U.S. Small Business Administration by 15 U.S.C. 633. This determination follows consultation with the Management Secretariat, General Services Administration.

Name of Committee: Advisory Committee on Veterans Business Affairs.

Purpose and Objective: The committee provides recommendations and advice regarding the Agency's financial management, including the financial reporting process, systems of internal controls, audit process and process for monitoring compliance with relevant laws and regulations.

Balanced Membership Plans: The committee consists of at least three (3) members including one Chairperson. Committee membership must be fairly balanced and diverse in terms of occupational backgroup and type of financial expertise.

Duration: Continuing.

Responsible SBA Officials: William Elmore, Assistant Administrator, Office of Veterans Business Development, U.S. Small Business Administration, 409 3rd Street, SW., Washington, DC 20416.

Meredith Davis,
Committee Management Officer.

[FR Doc. 08-141 Filed 1-15-08; 8:45 am]

BILLING CODE 8025-01-M